DEPARTMENT OF ENERGY

Federal Energy Regulatory Commission

[Docket No. RP07-504-000]

Algonquin Gas Transmission, LLC; Notice of Technical Conference

August 13, 2007.

The Commission's July 30, 2007, Order in the above-captioned proceeding ¹ directed that a technical conference be held to address issues raised by Algonquin Gas Transmission, LLC's proposed gas quality and interchangeability specifications.

¹ Algonquin Gas Transmission, LLC, 120 FERC ¶ 61,114 (2007).

Take notice that a technical conference will be held on Tuesday, August 21, 2007, at 9:30 a.m., in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Sandra Elliott at (202) 502-8694 or e-mail Sandra.elliott@ferc.gov.

Kimberly D. Bose,
Secretary.

[FR Doc. E7-16235 Filed 8-17-07; 8:45 am]

BILLING CODE 6717-01-P